DEPARTMENT OF HEALTH AND HUMAN SERVICES

Office of the Secretary

[Document Identifier: 0955-New-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before May 24, 2017.

ADDRESSES: Submit your comments to OIRA_submission@omb.eop.gov or via facsimile to (202) 395-5806.

FOR FURTHER INFORMATION CONTACT: Information Collection Clearance staff, Information.CollectionClearance@hhs.gov or (202) 795-7714.

SUPPLEMENTARY INFORMATION: When submitting comments or requesting information, please include the Information Collection Request Title and document identifier 0955-New-30D for reference.

Information Collection Request Title: National Council for Behavioral Health's Information Technology Survey.

Abstract: The Office of the National Coordinator for Health IT (ONC) in coordination with Substance Abuse and Mental Health Services Administration (SAMHSA) seeks to conduct a survey in 2017 of SAMSHA to examine the adoption and use of health IT as well as interoperability across community behavioral health care settings. Data from the survey will help ONC and SAMSHA monitor progress and enhance programs and policy to improve the use of health IT and expand interoperability across these settings. In 2015, ONC outlined a strategy by which both private and public stakeholders would work together to improve interoperability. This strategy called for measuring and reporting on the state of interoperability across the care continuum, including for behavioral health care providers; however, there are no recent national data available for this care setting. Addressing this gap is critical in order to also determine these providers' readiness to serve as partners in delivery system reform efforts that are underway and that will be expanded with the implementation of Medicare Access and CHIP Reauthorization Act of 2015 (MACRA). Although behavioral health care providers won't be participating in the MACRA initiative at the outset, the Secretary of Health and Human Services may include behavioral health providers, such as psychologists and social workers to participate in value-based payment initiatives such as the Merit-Based Incentive Payment System (MIPs) in the future.

Need and Proposed Use of the Information: This data collection effort will allow for us to assess health IT adoption and interoperability progress since 2015, enable comparisons to physician and hospital settings and contribute to strategic efforts to improve behavioral healthcare providers' adoption and use of health IT.

Likely Respondents: The respondents will include mid-level and executive level staff (IT Directors, CIO, and CEOs) of behavioral healthcare organizations that are involved in the management and maintenance of their organization's health IT infrastructure.

The total annual burden hours estimated for this ICR are summarized in the table below.

Total Estimated Annualized Burden—Hours
Form name | Number of respondents | Number of responses per respondent | Average burden per response (in hours) | Total burden hours
National Council for Behavioral Health's Information Technology Survey | 533 | 1 | 20/60 | 178
Total | 533 | 1 | 20/60 | 178

Terry S. Clark,
Asst Information Collection Clearance Officer.

[FR Doc. 2017-08188 Filed 4-21-17; 8:45 am]

BILLING CODE 4150-45-P